DEPARTMENT OF AGRICULTURE

Office of the Chief Financial Officer

Notice of Intent To Extend and Revise a Currently Approved Information Collection

AGENCY: Office of the Chief Financial Officer, USDA.

ACTION: Notice and request for comments.

SUMMARY: This notice announces the intention of the Office of the Chief Financial Officer to request the renewal of a currently approved information collection (OMB No. 0505-0027) for suspension and debarment and drug-free workplace certifications.

DATES: Comments on this notice must be received by March 28, 2022 to be assured of consideration.

ADDRESSES: Comments may be submitted by either of the following methods:

• Federal eRulemaking Portal: This website permits short comments in a comment field on the web page or file attachments for lengthier comments. Go to https://www.regulations.gov for instructions.

• Postal Mail/Commercial Delivery: Attention: Tyson P. Whitney, Director, Transparency and Accountability Reporting Division, Office of the Chief Financial Officer, Room 3027-S, Mail Stop 9011, U.S. Department of Agriculture, 1400 Independence Avenue SW, Washington, DC 20250; tyson.whitney@usda.gov.

All comments will be available for public inspection and posted without change, including any personal information, to https://www.regulations.gov. Out of an abundance of caution for USDA employees and the public, onsite review is closed, with limited exceptions, to reduce the risk of COVID-19 transmission. However, remote customer service will continue via email at the contact information cited above. The public is encouraged to submit comments via https://www.regulations.gov or email, as there may be a delay in processing mail. Hand deliveries and couriers may be received by scheduled appointment only.

FOR FURTHER INFORMATION CONTACT: Tyson P. Whitney, Director, Transparency and Accountability Reporting Division, Office of the Chief Financial Officer, Room 3027-S, Mail Stop 9011, U.S. Department of Agriculture, 1400 Independence Avenue SW, Washington, DC 20250; 202-720-8978, tyson.whitney@usda.gov.

SUPPLEMENTARY INFORMATION: In accordance with the Paperwork Reduction Act of 1995 (44 U.S.C. chapter 35) and Office of Management and Budget (OMB) regulations at 5 CFR part 1320, this notice announces the intention of the USDA Office of the Chief Financial Officer to request the renewal of a currently approved information collection (OMB No. 0505-0027) for suspension and debarment and drug-free workplace certifications.

Title: Suspension and Debarment and Drug-Free Workplace Certifications.

OMB Number: 0505-0027.

Expiration Date of Current Approval: April 30, 2022.

Type of Request: Intent to extend a currently approved information collection for three years.

Estimate of Burden: Public reporting burden for this total collection of information is estimated to average 0.25 hours per response per individual form. This burden is assumed for all forms in the aggregate.

Type of Respondents: Individuals or private entities; businesses or other for profit; not-for profit; Federal, state, local or tribal governments; institutions of higher education or other research organizations; foreign organizations.

Estimated Number of Respondents: 620,697.

Estimated Number of Responses: 1,241,394.

Estimated Number of Responses per Respondent: 2.

Estimated Total Annual Burden on Respondents: 310,349.

Form | Number of respondents | Number of responses per respondent | Number of responses | Average time to prepare (hrs) | Total annual burden on respondents (hrs)
AD-1047 | 124,170 | 2 | 248,340 | 0.25 | 62,085
AD-1048 | 124,131 | 2 | 248,262 | 0.25 | 62,066
AD-1049 | 124,170 | 2 | 248,340 | 0.25 | 62,085
AD-1050 | 124,113 | 2 | 248,226 | 0.25 | 62,057
AD-1052 | 124,113 | 2 | 248,226 | 0.25 | 62,057
Total | 620,697 | 2 | 1,241,394 | 0.25 | 310,349

Comments from interested parties are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval.

Tyson P. Whitney,
Director, Transparency and Accountability Reporting Division.

[FR Doc. 2022-01392 Filed 1-24-22; 8:45 am]

BILLING CODE 3410-KS-P